DEPARTMENT OF LABOR

Employment and Training Administration

[TA-W-50,576 et al.]

Great Northern Paper Company, Inc., East Millinocket, ME; Including Employees of Great Northern Paper Company, Inc., Operating at Various Locations; Amended Certification Regarding Eligibility to Apply for Worker Adjustment Assistance

In accordance with section 223 of the Trade Act of 1974 (19 U.S.C. 2273) the Department of Labor issued a Certification of Eligibility to Apply for Worker Adjustment Assistance on February 3, 2003, applicable to workers of Great Northern Paper Company, Inc., East Millinocket, Maine. The notice was published in the Federal Register on February 24, 2003 (68 FR 8620).

At the request of the State agency, the Department reviewed the certification for workers of the subject firm. New information shows that worker separations have occurred involving employees of the East Millinocket, Maine facility of Great Northern Paper Company, Inc. operating at various locations in the following states: Illinois, Wisconsin, Connecticut, Ohio, New Jersey and Alabama. These employees provide sales and marketing support function services for the production of directory paper at the East Millinocket, Maine location of the subject firm.

Based on these findings, the Department is amending this certification to include employees of the East Millinocket, Maine location of Great Northern Paper Company, Inc. operating at various locations in the following states: Illinois, Wisconsin, Connecticut, Ohio, New Jersey and Alabama.

The intent of the Department's certification is to include all workers of Great Northern Paper Company, Inc. who were adversely affected by increased imports.

The amended notice applicable to TA-W-50,576 is hereby issued as follows:

All workers of Great Northern Paper Company, Inc., East Millinocket, Maine (TA-W-50,576), including employees of Great Northern Paper Company, Inc., East Millinocket, Maine operating at various locations in the following states: Illinois (TA-W-50,576A), Wisconsin (TA-W-50,576B), Connecticut (TA-W-50,576C), Ohio (TA-W-50,576D), New Jersey (TA-W-50,576E), and Alabama (TA-W-50,576F), who became totally or partially separated from employment on or after January 14, 2002, through February 3, 2005, are eligible to apply for adjustment assistance under Section 223 of the Trade Act of 1974.

Signed at Washington, DC, this 3rd day of September 2003
Richard Church,
Certifying Officer, Division of Trade Adjustment Assistance.

[FR Doc. 03-26487 Filed 10-20-03; 8:45 am]

BILLING CODE 4510-30-P